DEPARTMENT OF AGRICULTURE

Rural Housing Service

Notice of Funding Availability (NOFA) for Loan Guarantees Under Section 538 Guaranteed Rural Rental Housing Program (GRRHP) for Fiscal Year 2014

AGENCY: Rural Housing Service, USDA.

ACTION: NOFA.

SUMMARY: This is a request for proposals for guaranteed loans under the Section 538 Guaranteed Rural Rental Housing Program (GRRHP) pursuant to 7 CFR 3565.4 for Fiscal Year (FY) 2014. The Consolidated Appropriations Act, 2014, Public Law 113-76 (January 17, 2014) appropriated $150 million in FY 2014. The commitment of program dollars will be made first to approved and complete applications from prior years' notices, then to applicants of selected responses in the order they are ranked under this Notice that have fulfilled the necessary requirements for obligation. Successful applications will be selected by the Agency for funding and subsequently awarded to the extent that funding may ultimately be made available to the Agency through appropriations.

Expenses incurred in developing applications will be at the applicant's risk. The following paragraphs outline the timeframes, eligibility requirements, lender responsibilities, and the overall response and application processes.

Eligible lenders are invited to submit responses for new construction and acquisition with rehabilitation of affordable rural rental housing. The Agency will review responses submitted by eligible lenders, on the lender's letterhead, and signed by both the prospective borrower and lender. Although a complete application is not required in response to this Notice, eligible lenders may submit a complete application concurrently with the response. Submitting a complete application will not have any effect on the respondent's response score.

DATES: Eligible responses to this Notice will be accepted until December 31, 2015, 12:00 p.m. Eastern Time. Selected responses that develop into complete applications and meet all Federal eligibility requirements prior to September 30, 2014 will receive conditional commitments until all FY 2014 funds are expended. Selected responses to this Notice that are deemed eligible for further processing after September 30, 2014, will be funded to the extent an appropriation act provides sufficient funding in the fiscal year the response is selected. Responses are subject to the fee structure in effect on the fiscal year they are selected.

Eligible lenders mailing a response or application must provide sufficient time to permit delivery to the appropriate submission address below on or before the closing deadline date and time. Acceptance by a U.S. Post Office or private mailer does not constitute delivery. Postage due responses and applications will not be accepted.

Submission Address: Eligible lenders will send responses to the Multi-Family Housing Program Director of the State Office where the project will be located.

USDA Rural Development State Offices, their addresses, and telephone numbers, may be found at http://www.rurdev.usda.gov/recd_map.html.

Note: Telephone numbers listed there are not toll-free.

FOR FURTHER INFORMATION CONTACT: Monica Cole, Financial and Loan Analyst, USDA Rural Development Guaranteed Rural Rental Housing Program, Multi-Family Housing Guaranteed Loan Division, U.S. Department of Agriculture, South Agriculture Building, Room 1263-S, STOP 0781, 1400 Independence Avenue SW., Washington, DC 20250-0781 or email: monica.cole@wdc.usda.gov. Telephone: (202) 720-1251. This number is not toll-free. Hearing or speech-impaired persons may access that number by calling the Federal Information Relay Service toll-free at (800) 877-8339.

Overview

Federal Agency: Rural Housing Service.

Solicitation Opportunity Title: Guaranteed Multi-Family Housing Loans.

Announcement Type: Initial Solicitation Announcement.

Catalog of Federal Domestic Assistance: 10.438.

Dates: Response Deadline: December 31, 2015, 12:00 p.m. Eastern Time.

I. Funding Opportunity Description

The GRRHP is authorized by Section 538 of the Housing Act of 1949, as amended (42 U.S.C. 1490p-2) and operates under 7 CFR part 3565. The purpose of the GRRHP is to increase the supply of affordable rural rental housing through the use of loan guarantees that encourage partnerships between the Agency, private lenders, and public agencies.

Eligibility of Prior Year Selected Responses: Prior fiscal year response selections that did not develop into complete applications within the time constraints stipulated by the corresponding State Office have been cancelled. Applicants have been notified of the cancellation by the State Office. A new response for the project may be submitted subject to the conditions of this Notice.

Prior years' responses that were selected by the Agency, with a complete application submitted by the lender within 90 days from the date of notification of response selection (unless an extension was granted by the Agency), will be eligible for FY 2014 program dollars without having to complete a FY 2014 response. A complete application includes all Federal environmental documents required by 7 CFR part 1940, subpart G, and a Form RD 3565-1, “Application for Loan and Guarantee.” Any approved applications originating from FY 2013 and previous fiscal years (outstanding prior years approved applications) that are obligated in FY 2014, however, are subject to “PROGRAM FEES FOR FY 2014” section in this Notice. Outstanding prior years approved applications will be obligated to the extent of available funding in order of priority score with the highest scores obligated first. The scores the applications received under the NOFA the year the application was submitted will be used for the ranking. In the case of tied scores, the project with the greatest leveraging (lowest loan to cost ratio) will receive selection priority. Once the outstanding prior years approved applications have been funded, the Agency will select FY 2014 responses for further processing in rank order as determined by the scoring criteria set forth in this Notice to the extent that funds remain available.

II. Award Information

Anyone interested in submitting an application for funding under this program is encouraged to consult the Rural Development Web site http://www.rurdev.usda.gov/HAD-Guaranteed_Rental_Loans.html periodically for updated information regarding the status of funding authorized for this program.

Qualifying Properties: Qualifying properties include new construction for multi-family housing units and the acquisition of existing structures with a minimum per unit rehabilitation expenditure requirement in accordance with 7 CFR 3565.252.

Also eligible is the revitalization, repair, and transfer (as stipulated in 7 CFR 3560.406) of existing direct Section 515 housing and Section 514/516 Farm Labor Housing (FLH) (transfer costs are subject to Agency approval and must be an eligible use of loan proceeds as listed in 7 CFR 3565.205), and properties involved in the Agency's Multi-Family Preservation and Revitalization (MPR) program. Equity payment, as stipulated in 7 CFR 3560.406, in the transfer of existing direct Section 515 and Section 514/516 FLH, is an eligible use of guaranteed loan proceeds. In order to be considered, the transfer of Section 515 and Section 514/516 FLH and MPR projects must need repairs and undergo revitalization of a minimum of $6,500 per unit.

Eligible Financing Sources: Any form of Federal, State, and conventional sources of financing can be used in conjunction with the loan guarantee, including Home Investment Partnerships Program (HOME) grant funds, tax exempt bonds, and Low Income Housing Tax Credits (LIHTC).

Types of Guarantees: The Agency offers three types of guarantees which are set forth at 7 CFR 3565.52(c). The Agency's liability under any guarantee will decrease or increase, in proportion to any decrease or increase in the amount of the unpaid portion of the loan, up to the maximum amount specified in the Loan Note Guarantee. Penalties incurred as a result of default are not covered by any of the program's guarantees. The Agency may provide a lesser guarantee based upon its evaluation of the credit quality of the loan.

Energy Conservation: All new multi-family housing projects financed in whole or in part by the USDA, are encouraged to engage in sustainable building development that emphasizes energy-efficiency and conservation. In order to assist in the achievement of this goal, any GRRHP project that participates in one or all of the programs included in priority 7 under the “Scoring of Priority Criteria for Selection of Projects” section of this Notice may receive a maximum of 25 additional points added to their project score. Participation in these nationwide initiatives is voluntary, but strongly encouraged.

Interest Credit: The Consolidated Appropriations Act, 2014 did not fund interest credit.

Program Fees for FY 2014: The Consolidated Appropriations Act, 2014, Public Law 113-76 (January 17, 2014) continued the provision “That to support the loan program level for Section 538 guaranteed loans made available under this heading the Secretary may charge or adjust any fees to cover the projected cost of such loan guarantees pursuant to the provisions of the Credit Reform Act of 1990 (2 U.S.C. 661 et seq), and the interest on such loans may not be subsidized.” The following fees have been determined necessary to cover the projected cost of such loan guarantees for FY 2014. These fees may be adjusted in future years to cover the projected costs of loan guarantees in those future years or additional fees may be charged. These fees are also applicable to all outstanding prior years' responses funded with FY 2014 funds. The fees are as follows:

1. Initial guarantee fee. The Agency will charge an initial guarantee fee equal to 1 percent of the guarantee principal amount. For purposes of calculating this fee, the guarantee amount is the product of the percentage of the guarantee times the initial principal amount of the guaranteed loan.

2. Annual guarantee fee. An annual guarantee fee of 50 basis points (½ percent) of the outstanding principal amount of the loan as of December 31 will be charged each year or portion of a year that the guarantee is outstanding.

3. As permitted under 7 CFR 3565.302(b)(5), there is a non-refundable service fee of $1,500 for the review and approval of a lender's first request to extend the term of a guarantee commitment beyond its original expiration (the request must be received by the Agency prior to the commitment's expiration). For any subsequent extension request, the fee will be $2,500.

4. As permitted under 7 CFR 3565.302(b)(5), there is a non-refundable service fee of $3,500 for the review and approval of a lender's first request to reopen an application when a commitment has expired. For any subsequent extension request to reopen an application after the commitment has expired, the fee will be $3,500.

5. As permitted under 7 CFR 3565.302(b)(4), there is a non-refundable service fee of $1,500 in connection with a lender's request to approve the transfer of property or a change in composition of the ownership entity.

6. There is no application fee.

7. There is no lender application fee for lender approval.

8. There is no surcharge for the guarantee of construction advances.

III. Eligibility Information

Eligible Lenders: An eligible lender for the Section 538 GRRHP as required by 7 CFR 3565.102 must be a licensed business entity or Housing Finance Agency (HFA) in good standing in the State or States where it conducts business. Lender eligibility requirements are contained in 7 CFR 3565.102. Please review that section for a complete list of all of the criteria. The Agency will only accept responses from GRRHP eligible or approved lenders as described in 7 CFR 3565.102 and 3565.103 respectively.

Lenders whose responses are selected will be notified by the Agency to submit a request for GRRHP lender approval within 30 days of notification. Lenders who request GRRHP approval must meet the standards in 7 CFR 3565.103.

Lenders that have received GRRHP lender approval that remain in good standing do not need to reapply for GRRHP lender approval. A lender making a construction loan must demonstrate an ability to originate and service construction loans, in addition to meeting the other requirements of 7 CFR part 3565, subpart C.

Submission of Documentation for GRRHP Lender Approval: All lenders that have not yet received GRRHP lender approval must submit a complete lender application to: Director, Multi-Family Housing Guaranteed Loan Division, Rural Development, U.S. Department of Agriculture, Room 1263-S, STOP 0781, 1400 Independence Avenue SW., Washington, DC 20250-0781. Lender applications must be identified as “Lender Application—Section 538 Guaranteed Rural Rental Housing Program” on the envelope.

IV. Application and Submission Information

NOFA responses can be submitted either electronically using the Section 538 electronic NOFA response form found at: http://www.rurdev.usda.gov/HAD-Guaranteed_Rental_Loans.html or in hard copy and submitted to the appropriate Rural Development State Office where the project will be located. USDA Rural Development State Offices, their addresses, and telephone numbers may be found at http://www.rurdev.usda.gov/recd_map.html, Note: Telephone numbers listed are not toll-free. Applicants are strongly encouraged, but not required, to submit the NOFA response electronically.

The electronic form contains a button labeled “Send Form.” By clicking on the button, the applicant will see an email message window with an attachment that includes the electronic form the applicant filled out as a data file with an .fdf extension. In addition, an auto-reply acknowledgement will be sent to the applicant when the electronic NOFA Response form is received by the Agency unless the sender has software that will block the receipt of the auto-reply email. The State Office will record NOFA responses received electronically by the actual date and time when all attachments are received at the State Office.

Submission of the electronic Section 538 NOFA response form does not constitute submission of the entire application package which requires additional forms and supporting documentation.

Content of Responses: All responses require lender information and project specific data as set out in this Notice. Incomplete responses will not be considered for funding. Lenders will be notified of incomplete responses no later than 30 calendar days from the date of receipt of the response by the Agency. Complete responses are to include a signed cover letter from the lender, on the lender's letterhead. The lender must provide the requested information concerning the project, to establish the purpose of the proposed project, its location, and how it meets the established priorities for funding. The Agency will determine the highest ranked responses based on priority criteria and a threshold score.

(1) Lender Certification: The lender must certify that the lender will make a loan to the prospective borrower for the proposed project, under specified terms and conditions subject to the issuance of the GRRHP guarantee. Lender certification must be on the lender's letterhead and signed by both the lender and the prospective borrower.

(2) Project Specific Data: The lender must submit the project specific data below on the lender's letterhead, signed by both the lender and the prospective borrower:

Data element | Information that must be included
Lender Name | Insert the lender's name.
Lender Tax ID # | Insert lender's tax ID number.
Lender Contact Name | Name of the lender contact for loan.
Mailing Address | Lender's complete mailing address.
Phone # | Phone number for lender contact.
Fax # | Insert lender's fax number.
E-mail Address | Insert lender contact e-mail address.
Borrower Name and Organization Type | State whether borrower is a Limited Partnership, Corporation, Indian Tribe, etc.
Equal Opportunity Survey | Optional Completion.
Tax Classification Type | State whether borrower is for profit, not for profit, etc.
Borrower Tax ID # | Insert borrower's tax ID number.
Borrower DUNS # | Insert DUNS number.
Borrower Address, including County | Insert borrower's address and county.
Borrower Phone #, fax # and e-mail address | Insert borrower's phone number, fax number and e-mail address.
Principal or Key Member for the Borrower | Insert name and title. List the general partners if a limited partnership, officers if a corporation or members of a Limited Liability Corporation.
Borrower Information and Statement of Housing Development Experience | Attach relevant information.
New Construction, Acquisition With Rehabilitation | State whether the project is new construction or acquisition with rehabilitation.
Revitalization, Repair, and Transfer (as stipulated in 7 CFR 3560.406) of Existing Direct Section 515 and Section 514/516 FLH or MPR | Yes or No (Transfer costs, including equity payments, are subject to Agency approval and must be an eligible use of loan proceeds in 7 CFR 3565.205).
Project Location Town or City | Town or city in which the project is located.
Project County | County in which the project is located.
Project State | State in which the project is located.
Project Zip Code | Insert Zip Code where the project is located.
Project Congressional District | Congressional District for project location.
Project Name | Insert project name.
Project Type | Family, senior (all residents 55 years or older), or mixed.
Property Description and Proposed Development Schedule | Provide as an attachment.
Total Project Development Cost | Enter amount for total project.
# of Units | Insert the number of units in the project.
Ratio of 3-5 bedroom units to total units | Insert percentage of 3-5 bedroom units to total units.
Cost Per Unit | Total development cost divided by number of units.
Rent | Proposed rent structure.
Median Income for Community | Provide median income for the community.
Evidence of Site Control | Attach relevant information.
Description of Any Environmental Issues | Attach relevant information.
Loan Amount | Insert the loan amount.
Borrower's Proposed Equity | Insert amount and source.
Tax Credits | Have tax credits been awarded? If tax credits were awarded, submit a copy of the award/evidence of award with your response. If not, when do you anticipate an award will be made (announced)? What is the [estimated] value of the tax credits? Letters of application and commitment letters should be included, if available.
Other Sources of Funds | List all funding sources other than tax credits and amounts for each source, type, rates and terms of loans or grant funds.
Loan to Total Development Cost | Guaranteed loan divided by the total development costs of project.
Debt Coverage Ratio | Net Operating Income divided by debt service payments.
Percentage of Guarantee | Percentage guarantee requested.
Collateral | Attach relevant information.
Colonia, Tribal Lands, or State's Consolidated Plan or State Needs Assessment | Colonia, on an Indian Reservation, or in a place identified in the State's Consolidated Plan or State Needs Assessment as a high need community for multi-family housing.
Is the Property Located in a Federally Declared Disaster Area? | If yes, please provide documentation (i.e., Presidential Declaration document).
Population | Provide the population of the county, city, or town where the project is or will be located.
What type of guarantee is being requested, Permanent only (Option 1), Construction and Permanent (Option 2) or Continuous (Option 3) | Enter the type of guarantee.
Loan Term | Minimum 25-year term. Maximum 40-year term (includes construction period). May amortize up to 40 years. Balloon mortgages permitted after the 25th year.
Participation in Energy Efficient Programs | Initial checklist indicating prerequisites to register for participation in a particular energy efficient program. All checklists must be accompanied by a signed affidavit by the project architect stating that the goals are achievable. If property management is certified for green property management, the certification must be provided.

(3) The Proposed Borrower Information:

(a) Lender certification that the borrower or principals of the owner are not barred from participating in Federal housing programs and are not delinquent on any Federal debt.

(b) Borrower's unaudited or audited financial statements.

(c) Statement of borrower's housing development experience.

(4) Lender Eligibility and Approval Status: Evidence that the lender is either an approved lender for the purposes of the GRRHP or that the lender is eligible to apply for approved lender status. The lender's application for approved lender status can be submitted with the response but must be submitted to the National Office within 30 calendar days of the lender's receipt of the “Notice to Proceed with Application Processing” letter.

(5) Competitive Criteria: (6) (5) Competitive Criteria: Information that shows how the proposal is responsive to the selection criteria specified in this Notice.

V. Application Review Information

Scoring of Priority Criteria for Selection: All FY 2014 responses will be scored based on the criteria set forth below to establish their priority for further processing. Per 7 CFR 3565.5(b), priority will be given to projects: In smaller rural communities, in the most needy communities having the highest percentage of leveraging, having the lowest interest rate, or having the highest ratio of 3-5 bedroom units to total units. In addition, as permitted in 7 CFR 3565.5(b), in order to meet important program goals, priority points will be given for projects that include LIHTC funding and projects that are participating in specified energy efficient programs.

The seven priority scoring criteria for projects are listed below.

Priority 1—Projects located in eligible rural communities with the lowest populations will receive the highest points.

Population size | Points
0-5,000 | 30
5,001-10,000 people | 15
10,001-15,000 people | 10
15,001-20,000 people | 5
20,001-35,000 people | 0

Priority 2—The neediest communities as determined by the median income from the most recent census data published by the United States Department of Housing and Urban Development (HUD), will receive points. The Agency will allocate points to projects located in communities having the lowest median income. Points for median income will be awarded as follows:

Median income (dollars) | Points
Less than $45,000 | 20
$45,000-less than $55,000 | 15
$55,000-less than $65,000 | 10
$65,000-less than $75,000 | 5
$75,000 or more | 0

Priority 3—Projects that demonstrate partnering and leveraging in order to develop the maximum number of units and promote partnerships with State and local communities will also receive points. Points will be awarded as follows:

Loan to total development cost ratio (percentage %) | Points
Less than 25 | 60
Less than 50 to 25 | 30
Less than 70 to 50 | 10
70 or more | 0

Priority 4—Responses that include equity from low income housing tax credits will receive an additional 50 points.

Priority 5—The USDA Rural Development will award points to projects with the highest ratio of 3-5 bedroom units to total units as follows:

Ratio of 3—5 bedroom units to total units | Points
More than 50% | 10
21%-50% | 5
Less than 21%-more than 0% | 1

Priority 6—Responses for the revitalization, repair, and transfer (as stipulated in 7 CFR 3560.406) of existing direct Section 515 and Section 514/516 FLH and properties involved in the Agency's MPR program (transfer costs, including equity payments, are subject to Agency approval and must be an eligible use of loan proceeds listed in 7 CFR 3565.205) will receive an additional 10 points. If the transfer of existing Section 515 and Section 514/516 FLH properties includes equity payments, 0 points will be awarded.

Priority 7—Energy Efficiency:

(A) Projects that are energy-efficient and registered for participation in the following programs will receive points as indicated up to a maximum of 25 points. Each program has an initial checklist indicating prerequisites for participation. Each applicant must provide a checklist establishing that the prerequisites for each program's participation will be met. Additional points will be awarded for checklists that achieve higher levels of energy efficiency certification as set forth below. All checklists must be accompanied by a signed affidavit by the project architect stating that the goals are achievable. Points will be awarded for the listed programs as follows. Because Energy Star for Homes is a requirement within other programs such as LEED and Green Communities, points will only be awarded separately for Energy Star for Homes if it is the only program in which the project is enrolled, excluding local programs that do not require participation in Energy Star for Homes:

• Energy Star for Homes—5 points;

• Green Communities by the Enterprise Community Partners (www.enterprisefoundation.org)—10 points;

• LEED for Homes program by the U.S. Green Building Council (USGBC) (www.usgbc.org)—Certified (10 points), Silver (12 points), Gold (15 points), or Platinum (25 points);

• Home Innovation's National Green Building Standard™ (NGBS) certification program (www.homeinnovation.com/green)—Bronze (10 points), Silver (12 points), Gold (15 points), or Emerald (25 points); or

• A State or local green building program—2 points

(B) Projects that will be managed by a property management company that are certified green property management companies will receive 5 points.

Applicants must provide proof of certification. Certification may be achieved through one of the following programs:

• National Apartment Association, Credential for Green Property Management (CGPM); www.naahq.org/EDUCATION/DESIGNATIONPROGRAMS/OTHER/Pages/default.aspx;

• National Affordable Housing Management Association (NAHMA), Credential for Green Property Management (CGPM); www.nahma.org/content/greencred.html; or

• U.S. Green Building Council (USGBC), Green Building Certification Institute (GBCI) LEED AP (any discipline) or LEED Green Associate; www.gbci.org.

(C) Energy Generation (maximum 5 points). Pre-applications for new construction or purchase and rehabilitation of non-program multi-family projects which participate in the Energy Star for Homes V3 Program, Green Communities, LEED for Homes or NAHB's National Green Building Standard (ICC-700) 2008, receive at least 8 points for Energy Conservation measures (if limited rehabilitation only) in the point allocations above are eligible to earn additional points for installation of on-site renewable energy sources. In order to receive more than 1 point for this energy generation section, an accurate energy analysis prepared by an engineer will need to be submitted with the pre-application. Energy analysis of preliminary building plans using industry-recognized simulation software must document the projected total energy consumption of the building, the portion of the building consumption which will be satisfied through on-site generation and the building's Home Energy Rating System (HERS) score.

Projects with an energy analysis of the preliminary or rehabilitation building plans that propose a 10 percent to 100 percent energy generation commitment (where generation is considered to be the total amount of energy needed to be generated on-site to make the building a net-zero consumer of energy) will be awarded points as follows:

• (a) 0 to 9 percent commitment to energy generation receives 0 points;

• (b) 10 to 29 percent commitment to energy generation receives 1 point;

• (c) 30 to 49 percent commitment to energy generation receives 2 points;

• (d) 50 to 69 percent commitment to energy generation receives 3 points;

• (e) 70 to 89 percent commitment to energy generation receives 4 points;

• (f) 90 percent or more commitment to energy generation receives 5 points.

Notifications: Responses will be reviewed for completeness and eligibility. The Agency will notify those lenders whose responses are selected via a Notice to Proceed with Application Processing letter. The Agency will request lenders without GRRHP lender approval to apply for GRRHP lender approval within 30 days upon receipt of notification of selection.

Lenders will also be invited to submit a complete application to the USDA Rural Development State Office where the project is located.

Submission of GRRHP Applications: Notification letters will instruct lenders to contact the USDA Rural Development State Office immediately following notification of selection to schedule required agency reviews.

USDA Rural Development State Office staff will work with lenders in the development of an application package. The deadline for the submission of a complete application is 90 calendar days from the date of notification of response selection. If the application is not received by the appropriate State Office within 90 calendar days from the date of notification, the selection is subject to cancellation, thereby allowing another response that is ready to proceed with processing to be selected. The Agency may extend this 90 day deadline for receipt of an application at its own discretion.

VI. Award Administration Information

Obligation of Program Funds: The Agency will only obligate funds to projects that meet the requirements for obligation under 7 CFR part 3565 and this NOFA, including having undergone a satisfactory environmental review in accordance with the National Environmental Protection Act (NEPA) and completed Form RD 3565-1 for the selected project.

The Agency will prioritize the obligation requests using the highest score and the procedures outlined as follows. The Agency will select the responses that meet eligibility criteria and invite lenders to submit complete applications to the Agency. Once a complete application is received and approved, the Agency's State Office will submit a request to obligate funds to the Agency's National Office. Starting on the Friday following the date the NOFA is published; obligation requests submitted to the National Office will be accumulated, but not obligated throughout the week until midnight Eastern Time every Thursday. To the extent that funds remain available, the Agency will obligate the requests accumulated through the weekly request deadline of the previous week by the following Tuesday (i.e., requests received from Friday, May 16, 2014, to Thursday, May 22, 2014, will be obligated by Tuesday, May 27, 2014). In the event of a tie, priority will be given to the request for the project that: 1st—has the highest percentage of leveraging (lowest Loan to Cost) and in the event there is still a tie;—is in the smaller rural community.

Conditional Commitment: Once the required documents for obligation are received and all NEPA and regulatory requirements have been met, the USDA Rural Development State Office will issue a conditional commitment, which stipulates the conditions that must be fulfilled before the issuance of a guarantee, in accordance with 7 CFR 3565.303.

Issuance of Guarantee: The USDA Rural Development Office will issue a guarantee to the lender for a project in accordance with 7 CFR 3565.303. No guarantee can be issued without a complete application, review of appropriate certifications, satisfactory assessment of the appropriate level of environmental review, and the completion of any conditional requirements.

Non-Discrimination Statement

USDA prohibits discrimination against its customers, employees, and applicants for employment on the bases of race, color, national origin, age, disability, sex, gender identity, religion, reprisal and, where applicable, political beliefs, marital status, familial or parental status, sexual orientation, or if all or part of an individual's income is derived from any public assistance program, or protected genetic information in employment or in any program or activity conducted or funded by the Department. (Not all prohibited bases will apply to all programs and/or employment activities.)

If you wish to file a Civil Rights program complaint of discrimination, complete the USDA Program Discrimination Complaint Form, found online at http://www.ascr.usda.gov/complaint_filing_cust.html, or at any USDA office, or call (866) 632-9992 to request the form. You may also write a letter containing all of the information requested in the form. Send your completed complaint form or letter to us by mail at U.S. Department of Agriculture, Director, Office of Adjudication, 1400 Independence Avenue SW., Washington, DC 20250-9410, by fax (202) 690-7442 or email at program.intake@usda.gov.

Individuals who are deaf, hard of hearing, or have speech disabilities and wish to file either an EEO or program complaint please contact USDA through the Federal Relay Service at (800) 877-8339 or (800) 845-6136 (in Spanish). Persons with disabilities, who wish to file a program complaint, please see information above on how to contact us by mail directly or by email. If you require alternative means of communication for program information (e.g., Braille, large print, audiotape, etc.) please contact USDA's TARGET Center at (202) 720-2600 (voice and TDD). “USDA is an equal opportunity provider, employer, and lender.”

Dated: May 15, 2014.
Tony Hernandez,
Administrator, Housing and Community Facilities Programs.

[FR Doc. 2014-11733 Filed 5-20-14; 8:45 am]

BILLING CODE 3410-XV-P